SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before January 9, 2014.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: The Small Business Investment Act authorizes SBA to guarantee a debenture issued by a Certified Development Company (CDC) participating in SBA's 504 Loan Program. The proceeds from each debenture are used to fund loans (“504 loans”) to eligible small business concerns (SBCs). 15 U.S.C. 697(a). The first information collection described below, SBA Form 1244 (OMB Control Number 3245-0071), is the Application for Section 504 Loans. The second information collection, the CDC Annual Report Guide, SBA Form 1253 (OMB Control Number 3245-0074) relates to the annual report required from each CDC as stated in 13 CFR 120.830. Prior notice of proposed changes to these information collections was published in the Federal Register on August 30, 2013, at 78 FR 53816. The changes are necessary to conform the forms to recent updates in the Lender and Development Company Loan Programs standard operating procedures, designated as SOP 50 10 5 (F). The changes include revisions to the exhibits required to be attached to the 504 loan application such as a clarification of who is required to submit credit reports, and addition of a requirement to submit a Credit Alert Verification Reporting System (CAIVRS) report to document that an applicant, guarantors or affiliates have no prior loss to the government or delinquent Federal debt. Changes to the CDC Annual Report Guide include a clarification of the consequences for failure to file the report in a timely manner, and clarification of the requirement to submit financial statements that have been reviewed by an independent CPA.

SBA notes that these changes resulting from updates to the SOP are in addition to the changes that the Agency proposed in the February 25, 2013, publication of 504 and 7(a) Loan Program Updates notice of proposed rulemaking. (78 FR 12633). That rulemaking is still pending final review and approval. As soon as SBA receives that approval it will make any additional and necessary changes to Forms 1244 and 1253 to conform to the final rule.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

(1) Title: Application for Section 504 Loan.

Description of Respondents: Small Business Concerns applying for a Section 504 loan and Certified Development Companies.

Form Number: SBA Form 1244 collects information that is used to determine the creditworthiness and repayment ability of the small business concern and its eligibility for SBA financial assistance; as well as the terms and conditions of the 504 loan. Form 1244 is also used by CDCs to request SBA's guarantee on the debenture.

Estimated Annual Respondents: 7,000.

Estimated Annual Responses: 7,000.

Estimated Annual Hour Burden: 14,613.

(2) Title: Certified Development Company (CDC) Annual Report Guide.

Description of Respondents: Certified Development Companies.

Form Number: SBA Form 1253 outlines the information (financial statements, economic development activities, and other operational and management information) that the CDC must submit to comply with the annual reporting requirement.

Estimated Annual Respondents: 260.

Estimated Annual Responses: 260.

Estimated Annual Hour Burden: 7,280.

Curtis B. Rich,
Management Analyst.

[FR Doc. 2013-29372 Filed 12-9-13; 8:45 am]

BILLING CODE 8025-01-P